SMALL BUSINESS ADMINISTRATION

[Declaration of Disaster #3336]

State of Kansas; Amendment No. 1

In accordance with a notice received from the Federal Emergency Management Agency, dated May 1, 2001, the above-numbered Declaration is hereby amended to establish the incident period for this disaster as occurring between April 21, 2001 and continuing through May 1, 2001. All other information remains the same, i.e., the deadline for filing applications for physical damage is June 26, 2001 and for economic injury the deadline is January 28, 2002.

(Catalog of Federal Domestic Assistance Program Nos. 59002 and 59008)

Dated: June 6, 2001.
Allan I. Hoberman,
Acting Associate Administrator for Disaster Assistance.

[FR Doc. 01-14751 Filed 6-11-01; 8:45 am]

BILLING CODE 8025-01-P